ARCHITECTURAL AND TRANSPORTATION BARRIERS COMPLIANCE BOARD

36 CFR Parts 1193 and 1194

[Docket No. 2006-1]

Telecommunications Act Accessibility Guidelines; Electronic and Information Technology Accessibility Standards

AGENCY: Architectural and Transportation Barriers Compliance Board.

ACTION: Notice of intent to establish advisory committee.

SUMMARY: The Architectural and Transportation Barriers Compliance Board (Access Board) announces its intent to establish an Advisory Committee (Committee) to make recommendations for revisions and updates to accessibility guidelines for telecommunications products and accessibility standards for electronic and information technology. The Access Board requests applications from interested organizations for representatives to serve on the Committee.

DATES: Applications should be received by May 18, 2006.

ADDRESSES: Applications should be sent to the Office of Technical and Information Services, Architectural and Transportation Barriers Compliance Board, 1331 F Street, NW., suite 1000, Washington, DC 20004-1111. Fax number (202) 272-0081. Applications may also be sent via electronic mail to the Access Board at the following address: creagan@access-board.gov.

FOR FURTHER INFORMATION CONTACT: Timothy Creagan, Office of Technical and Information Services, Architectural and Transportation Barriers Compliance Board, 1331 F Street, NW., suite 1000, Washington, DC 20004-1111. Telephone number (202) 272-0016 (Voice); (202) 272-0082 (TTY). Electronic mail address: creagan@access-board.gov.

SUPPLEMENTARY INFORMATION:

Background

On February 8, 1996, the Telecommunications Act of 1996 was enacted. The Architectural and Transportation Barriers Compliance Board (Access Board) ¹ was given the responsibility for developing accessibility guidelines for telecommunications equipment and customer premises equipment in conjunction with the Federal Communications Commission. The Board was also instructed to review and update the guidelines periodically. The Board published the guidelines on February 3, 1998. 63 FR 5608 (February 3, 1998); 36 CFR part 1193. The guidelines were based on recommendations from a Telecommunications Access Advisory Committee that the Board had created.

¹ The Access Board is an independent Federal agency established by section 502 of the Rehabilitation Act (29 U.S.C. 792) whose primary mission is to promote accessibility for individuals with disabilities. The Access Board consists of 25 members. Thirteen are appointed by the President from among the public, a majority of who are required to be individuals with disabilities. The other twelve are heads of the following Federal agencies or their designees whose positions are Executive Level IV or above: The departments of Health and Human Services, Education, Transportation, Housing and Urban Development, Labor, Interior, Defense, Justice, Veterans Affairs, and Commerce; the General Services Administration; and the United States Postal Service.

On August 7, 1998, the Workforce Investment Act of 1998, which includes the Rehabilitation Act Amendments of 1998, was signed into law. Section 508 of the Rehabilitation Act Amendments generally requires that when Federal departments or agencies develop, procure, maintain, or use electronic and information technology, they must ensure that the technology is accessible to people with disabilities, unless an undue burden would be imposed on the department or agency. Section 508 required the Access Board to publish standards setting forth a definition of electronic and information technology and technical and functional performance criteria for such technology. In developing the standards, the Board was instructed to consult with various Federal agencies ², the electronic and information technology industry, and appropriate public or nonprofit agencies or organizations, including organizations representing individuals with disabilities. The Board was also required to periodically review and, as appropriate, amend the standards to reflect technological advances or changes in electronic and information technology. The Board published the standards on December 21, 2000. 65 FR 80500 (December 21, 2000); 36 CFR part 1194. The standards were based on recommendations from an Electronic and Information Technology Access Advisory Committee that the Board had created to assist it in developing the standards.

² The Access Board is required to consult with the Secretary of Education, the Administrator of General Services, the Secretary of Commerce, the Chairman of the Federal Communications Commission, the Secretary of Defense, and the head of any other Federal department or agency that the Access Board determines to be appropriate.

It has been over eight years since the Board issued the Telecommunications Act Accessibility Guidelines and over five years since the Electronic and Information Technology Accessibility Standards were issued. Technology has changed during that time. Additionally, several organizations have asked the Board to update its Electronic and Information Technology Accessibility Standards so that they are harmonized with efforts taking place around the globe. The telecommunications provisions in the Electronic and Information Technology Accessibility Standards are based on and are consistent with the Telecommunications Act Accessibility Guidelines. Therefore, updating and revising the Electronic and Information Technology Accessibility Standards and the Telecommunications Act Accessibility Guidelines could be done together.

Advisory Committee

At its November 9, 2005 meeting, the Access Board voted to form a Federal Advisory Committee (Committee) to revise and update its Telecommunications Act Accessibility Guidelines and Electronic and Information Technology Accessibility Standards in one rulemaking and that the committee should include representation from other countries and international standards setting organizations in addition to other groups. The Access Board will begin the process of updating its Telecommunications Act Accessibility Guidelines and Electronic and Information Technology Accessibility Standards by establishing an Advisory Committee. The establishment of the Committee is in the public interest and will assist the Board in meeting its obligation for broad consultation with Federal agencies, the telecommunications and electronic and information technology industry, organizations representing individuals with disabilities, and others in the update and revision of the guidelines and standards. The Committee will make recommendations to the Access Board on issues such as:

• Types of products to be covered;

• Barriers to the use of such products by persons with disabilities;

• Solutions to such barriers, if known, and research on such barriers;

• Harmonization with international standards efforts in this area; and

• Contents of the revised and updated guidelines and standards.

The Committee will be expected to present a report with its recommendations to the Access Board within 10 months of the Committee's first meeting. The Access Board requests applications for representatives of the following interests for membership on the Committee:

• Federal agencies;

• The telecommunications and electronic and information technology industry, including manufacturers;

• Organizations representing the access needs of individuals with disabilities;

• Representatives from other countries and international standards setting organizations; and

• Other organizations affected by these accessibility guidelines and standards.

The number of Committee members will be limited to effectively accomplish the Committee's work and will be balanced in terms of interests represented. Organizations with similar interests are encouraged to submit a single application to represent their interest. Although the Committee will be limited in size, there will be opportunities for the public to present information to the Committee, participate through subcommittees, and to comment at Committee meetings.

Applications should be sent to the Access Board at the address listed at the beginning of this notice. The application should include the name of the organization; person who will represent the organization (and an alternate); title; address, telephone number, and e-mail address; a statement of the interests represented; and a description of the representative's qualifications, including engineering, technical, and design expertise and knowledge of making telecommunications products or electronic and information technology accessible to individuals with disabilities. Committee members will not be compensated for their service. The Access Board may, at its own discretion, pay travel expenses for a limited number of persons who would otherwise be unable to participate on the Committee. Committee members will serve as representatives of their organizations, not as individuals. They will not be considered special government employees and will not be required to file confidential financial disclosure reports.

After the applications have been reviewed, the Access Board will publish a notice in the Federal Register announcing the appointment of Committee members and the first meeting of the Committee. The first meeting of the Committee is tentatively scheduled for September 6-7, 2006 in Arlington, VA. The Committee will operate in accordance with the Federal Advisory Committee Act, 5 U.S.C. app 2. All Committee meetings will be held in the Washington, DC metropolitan area. Each meeting will be open to the public. A notice of each meeting will be published in the Federal Register at least 15 days in advance of the meeting. Records will be kept of each meeting and made available for public inspection.

Availability of Copies and Electronic Access

Single copies of this notice may be obtained at no cost by calling the Access Board's automated publications order line (202) 272-0080, by pressing 2 on the telephone keypad and then 1. Please record your name, address, telephone number and request the advisory committee notice. Persons using a TTY should call (202) 272-0082. This notice is available in alternate formats upon request. Persons who want this notice in an alternate format should specify the type of format (cassette tape, Braille, large print, or ASCII disk). This notice is also available on the Board's Web site (http://www.access-board.gov).

Lawrence W. Roffee,
Executive Director.

[FR Doc. E6-5761 Filed 4-17-06; 8:45 am]

BILLING CODE 8150-01-P